DEPARTMENT OF LABOR

Employment and Training Administration

[TA-W-55,679]

Thor-Tex, Inc.; Albermarle, NC; Notice of Termination of Investigation

Pursuant to Section 221 of the Trade Act of 1974, as amended, an investigation was initiated on September 24, 2004 in response to a worker petition filed by a company official on behalf of workers at Thor-Tex, Inc., Albermarle, North Carolina.

The petition regarding the investigation has been deemed invalid. In order to establish a valid worker group, there must be at least three workers employed at some point during the period under investigation. Workers of the group subject to this investigation did not meet this threshold of employment. Consequently the investigation has been terminated.

Signed at Washington, DC, this 27th day of September 2004.
Richard Church,
Certifying Officer, Division of Trade Adjustment Assistance.

[FR Doc. 04-22803 Filed 10-8-04; 8:45 am]

BILLING CODE 4510-30-U